DEPARTMENT OF THE INTERIOR

Bureau of Land Management

[LLIDI01000 L12320000 AL0000 LVRDID130000]

Notice of Intent To Collect Fees on Public Land in Clark County, ID

AGENCY: Bureau of Land Management, Interior.

ACTION: Notice of Intent to Collect Fees on Public Land in Clark County, ID.

SUMMARY: Pursuant to applicable provisions of the Federal Lands Recreation Enhancement Act (REA), the Bureau of Land Management (BLM) Upper Snake Field Office is proposing to collect a reservation fee for large group sites at the Birch Creek Campground in Clark County, ID. Under Section 2(2) of the REA, Birch Creek Campground qualifies as a site wherein visitors can be charged an “Expanded Amenity Recreation Fee” authorized under section 3(g). In accordance with the REA, and the BLM's implementing regulations, the Upper Snake Field Office is proposing to charge a group site reservation fee of $35 per night for overnight camping within the Birch Creek Campground.

An analysis of the recreation site shows the proposed fees are reasonable and typical of similar sites in the area.

DATES: This notice initiates the public comment period. Comments by interested parties will be accepted in writing through July 22, 2013. New fees would begin no earlier than July 22, 2013.

New fee implementation is contingent upon a final review and approval recommendation by the Idaho Falls District Resource Advisory Council (RAC) and the BLM Idaho State Director. The BLM Upper Snake Field Office will provide final public notice of the group site reservation fee collection for the Birch Creek Campground.

ADDRESSES: Comments may be submitted to Attention: Shannon Bassista, Bureau of Land Management Upper Snake Field Office, 1405 Hollipark Drive, Idaho Falls, ID 83401, via email at BLM_ID_IF_BirchCrCGFee@blm.gov or by fax at 208-524-7505. Please reference “Notice of Intent to Collect Fees at Birch Creek Campground” on all correspondence.

FOR FURTHER INFORMATION CONTACT: Shannon Bassista, BLM Upper Snake Field Office recreation planner at 208-524-7552 or by email at sbassista@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The REA directs the Secretary of the Interior to publish a six-month advance notice in the Federal Register whenever new recreation fee areas are established. Once the public comment period is complete, a new fee must be reviewed by a Recreation Resource Advisory Committee prior to a final decision and implementation.

The Birch Creek Campground is located in Clark County, Idaho, approximately 75 miles northwest of Idaho Falls, Idaho, and 86 miles south of Salmon, Idaho. It is fairly remote and allows visitors to camp adjacent to the popular Birch Creek fishing area and enjoy the scenery of the Lemhi Mountain range. Visitors can also recreate with motorized vehicles on adjacent BLM- and U.S. Forest Service-managed lands.

There are approximately 60 campsites and four large identified group sites dispersed along a 5.5 mile stretch of Birch Creek. Approximately one-third of the campsites have picnic tables and fire rings. There are multiple restroom facilities throughout the campground. The campground is adjacent to Highway 28 and is accessed by one of three entrances. The BLM does not provide electricity or water at the individual campsites and there is no recreational vehicle (RV) dump station or refuse collection. The host site has hook-ups, and there is a water pump adjacent to the host site that allows visitors to fill up their RV tanks. This area is not currently a fee area.

The Upper Snake Field Office is proposing charging a fee for large groups to reserve one of the group sites to guarantee camping access for an entire group. The proposed group site reservation fee is classified as an “Expanded Amenity Fee” under REA and would only apply to visitors wanting to reserve a group site. The BLM receives 12-15 requests annually to reserve one of the group sites at Birch Creek Campground. Reasons for these requests vary: some want to reserve a campsite located near accessible restroom facilities, while others want to reserve the location for large family reunions or other special occasions. Without an amenity fee associated with the site, the BLM is unable to make such reservations, leaving visitors wishing to reserve a group campsite with the sole option of seeking exclusive use, with an accompanying fee of $200, which is prohibitive for most weekend campground users. Because the vast majority of identified campsites at Birch Creek Campground are individual, a reservation system for group campsites would not displace or inconvenience other campers. Based on these factors, visitors' willingness to pay a group reservation fee is expected to be high.

Outside of the proposed group site reservation fee, the BLM is not planning to assess fees for camping at Birch Creek Campground. Additionally, fees will not be charged for camping in designated group sites when the sites have not been reserved.

Joe Kraayenbrink,
Idaho Falls District Manager.

[FR Doc. 2013-01266 Filed 1-22-13; 8:45 am]

BILLING CODE 4310-GG-P